DEPARTMENT OF THE INTERIOR

Bureau of Land Management

[20X.LLAK930000.L51010000.000000.LVRWL20L1090]

Notice of Preparation of a Supplemental Environmental Impact Statement for the Willow Master Development Plan

AGENCY: Bureau of Land Management, Interior.

ACTION: Notice of preparation of a supplemental environmental impact statement.

SUMMARY: The Bureau of Land Management (BLM) is preparing a Supplemental Environmental Impact Statement (SEIS) to address deficiencies identified by the U.S. District Court for Alaska in the 2020 Willow Master Development Plan (MDP)/Final Environmental Impact Statement (EIS) and Record of Decision (ROD) issued in October 2020, and to ensure compliance with applicable law. The BLM will not be holding a formal scoping period but has begun outreach to stakeholders and will accept input and comments through informal scoping for up to 30 days following the date of publication.

DATES: The BLM requests input concerning the scope of the analysis, and identification of relevant information, studies, and analyses to be considered in the SEIS, which must be received by March 9, 2022. The draft SEIS is scheduled to be released in the second quarter of 2022.

ADDRESSES: You may submit input by any of the following methods:

• ePlanning Website: https://eplanning.blm.gov/eplanning-ui/project/109410/510

• Mail: 222 W 7th Avenue, Stop #13, Anchorage, Alaska 99513

• More details and instructions for submitting public comment can be found on the BLM ePlanning website at https://eplanning.blm.gov/eplanning-ui/project/109410/510

Documents pertinent to this proposal may be examined at the ePlanning website.

FOR FURTHER INFORMATION CONTACT: Stephanie Rice at 907-271-3202, or by email at srice@blm.gov. Individuals who use telecommunication devices for the deaf (TDD) may call the Federal Relay Service (FRS) at 1-800-877-8339 between 8 a.m. and 8 p.m., Eastern Time, Monday through Friday.

SUPPLEMENTARY INFORMATION: The Willow project was originally analyzed in the 2020 Willow MDP/Final EIS and authorized in a ROD issued in October 2020. In August 2021, the U.S. District Court for Alaska vacated the ROD and remanded the matter to BLM to correct deficiencies in the EIS regarding analysis of foreign greenhouse gas emissions and screening of alternatives for detailed analysis. The BLM will prepare a SEIS to address the deficiencies identified by the Court's decision, and to ensure compliance with applicable law, including (but not limited to) the National Environmental Policy Act of 1969; the Federal Land Policy and Management Act of 1976; the Alaska National Interest Lands Conservation Act; and the Naval Petroleum Reserves Production Act. This process will incorporate input from federal agencies, environmental organizations, Alaska Native Tribes, organizations, and corporations, numerous State of Alaska agencies and the affected communities along the North Slope.

Additional opportunities for public participation, including public meetings, will be available upon publication of the draft SEIS. The BLM will continue to consult with potentially affected Federally recognized Tribes on a government-to-government basis in accordance with Executive Order 13175, and with affected Alaska Native corporations under the Department's Policy on Consultation with Alaska Native Claims Settlement Act Corporations (Aug. 10, 2012). We respectfully request participation in consultation by these Alaska Native entities to receive their views and recommendations on the Willow MDP. The BLM will hold individual consultations upon request.

Comments

It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action. Comments submitted anonymously will also be accepted and considered.

Thomas A. Heinlein,
Acting State Director, BLM Alaska.

[FR Doc. 2022-02423 Filed 2-4-22; 8:45 am]

BILLING CODE 4310-JA-P